DEPARTMENT OF HOMELAND SECURITY

Coast Guard

33 CFR Part 80

[Docket No. USCG-2014-0410]

RIN 1625-AC13

Navigation and Navigable Waters; Technical, Organizational, and Conforming Amendments

AGENCY: Coast Guard, DHS.

ACTION: Correcting amendment.

SUMMARY: The Coast Guard published a final rule in the Federal Register on July 7, 2014, making non-substantive corrections throughout Title 33 of the Code of Federal Regulations. In that final rule, the Coast Guard revised a paragraph because it duplicated the substance of another paragraph within the same section of an existing regulation. In correcting that error, the Coast Guard inadvertently removed four paragraphs from its regulations. This correction resolves that error by replacing the four paragraphs that we inadvertently removed.

DATES: This correction is effective on September 30, 2014.

FOR FURTHER INFORMATION CONTACT: If you have questions on this final rule, call or email Paul Crissy, Office of Standards Evaluation and Development, Coast Guard; telephone 202-372-1093, email Paul.H.Crissy@uscg.mil. If you have questions on viewing material on the docket, call Cheryl Collins, Program Manager, Docket Operations, telephone 202-366-9826.

SUPPLEMENTARY INFORMATION: To view the original final rule document, visit https://www.federalregister.gov/articles/2014/07/07/2014-14897/navigation-and-navigable-waters-technical-organizational-and-conforming-amendments?utm_campaign=subscription+mailing+list&utm_medium=email&utm_source=federalregister.gov.

Background

On July 7, 2014, the Coast Guard published its annual technical amendment to make non-substantive changes to Title 33 of the Code of Federal Regulations. 79 FR 38422.

Need for Correction

The Coast Guard published a final rule in the Federal Register that created the need for this correction. In that final rule, the Coast Guard revised 33 CFR 80.712 because paragraphs (a) and (b) described the same demarcation line for Stono Inlet. The Coast Guard corrected § 80.712 by redesignating paragraph (a) as paragraph (b), and revising paragraph (a) to reflect the latitude and longitude coordinates for the demarcation line across Lighthouse Inlet. Our amendatory instruction, however, resulted in the inadvertent removal of paragraphs (c) through (f) in § 80.712. This correction restores the original paragraphs (c) through (f) in § 80.712.

List of Subjects in 33 CFR Part 80

Navigation (water), Treaties, Waterways.

Accordingly, 33 CFR part 80 is amended by making the following correcting amendment:

PART 80—COLREGS DEMARCATION LINES

1. The authority citation for part 80 continues to read as follows:

Authority: 14 U.S.C. 2; 14 U.S.C. 633; 33 U.S.C. 151(a).

2. Revise § 80.712 to read as follows:

§ 80.712 Morris Island, SC to Hilton Head Island, SC.

(a) A line drawn from the easternmost tip of Folly Island to 32°41′37″ N., 079°53′03″ W. (abandoned lighthouse tower) on the northside of Lighthouse Inlet; thence west to the shoreline of Morris Island.

(b) A line drawn from the seaward tangent of Folly Island across Stono River to the shoreline of Sandy Point.

(c) A line drawn from the southernmost extremity of Seabrook Island 257° true across the North Edisto River Entrance to the shore of Botany Bay Island.

(d) A line drawn from the microwave antenna tower on Edisto Beach charted in approximate position latitude 32°28.3′ N. longitude 80°19.2′ W. across St. Helena Sound to the abandoned lighthouse tower on Hunting Island.

(e) A line formed by the centerline of the highway bridge between Hunting Island and Fripp Island.

(f) A line drawn from the westernmost extremity of Bull Point on Capers Island to Port Royal Sound Channel Range Rear Light, latitude 32°13.7′ N., longitude 80°36.0′ W.; thence 259° true to the easternmost extremity of Hilton Head at latitude 32°13.0′ N., longitude 80°40.1′ W.

Dated: September 23, 2014,
Katia Cervoni,
Chief, Office of Regulations and Administrative Law, U.S. Coast Guard.

[FR Doc. 2014-23251 Filed 9-29-14; 8:45 am]

BILLING CODE 9110-04-P